FEDERAL COMMUNICATIONS COMMISSION

47 CFR Part 54

[WC Docket No. 10-90; FCC 14-54 and 16-64]

Connect America Fund

AGENCY: Federal Communications Commission.

ACTION: Final rule; announcement of effective date.

SUMMARY: In this document, the Federal Communications Commission (Commission) announces that the Office of Management and Budget (OMB) has approved, for a period of three years, an information collection associated with the rules for the Connect America Fund Phase II auction (CAF-II auction) contained in the Commission's Connect America Fund Orders, FCC 14-54 and FCC 16-64. This document is consistent with the Connect America Fund Orders, which stated that the Commission would publish a document in the Federal Register announcing the effective date of the new information collection requirements.

DATES: The amendment to § 54.310(e) published at 79 FR 39164, July 9, 2014, is effective March 13, 2018.

FOR FURTHER INFORMATION CONTACT: Alexander Minard, Wireline Competition Bureau at (202) 418-7400 or TTY (202) 418-0484. For additional information concerning the Paperwork Reduction Act information collection requirements contact Nicole Ongele at (202) 418-2991 or via email: Nicole.Ongele@fcc.gov.

SUPPLEMENTARY INFORMATION: The Commission submitted new information collection requirements for review and approval by OMB, as required by the Paperwork Reduction Act (PRA) of 1995, on December 12, 2017, which were approved by the OMB on March 5, 2018. The information collection requirements are contained in the Commission's Connect America Fund Orders, FCC 14-54, published at 79 FR 39164, July 9, 2014 and FCC 16-64, published at 81 FR 44414, July 7, 2016. The OMB Control Number is 3060-1252. The Commission publishes this document as an announcement of the effective date of the rules published July 9, 2014. If you have any comments on the burden estimates listed below, or how the Commission can improve the collections and reduce any burdens caused thereby, please contact Nicole Ongele, Federal Communications Commission, Room 1-A620, 445 12th Street SW, Washington, DC 20554. Please include the OMB Control Number, 3060-1252, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on March 5, 2018, for the information collection requirements contained in 47 CFR 54.310(e) and 54.315(a), published at 79 FR 39164, July 9, 2014 and 81 FR 44414, July 7, 2016. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1252.

The foregoing notice is required by the Paperwork Reduction Act of 1995, Public Law 104-13, October 1, 1995, and 44 U.S.C. 3507.

The total annual reporting burdens and costs for the respondents are as follows:

OMB Control Number: 3060-1252.

OMB Approval Date: March 5, 2018.

OMB Expiration Date: March 31, 2021.

Title: Application to Participate in Connect America Fund Phase II Auction, FCC Form 183.

Form No.: FCC Form 183.

Respondents: Business or other for-profit, not-for-profit institutions, and state, local or tribal governments.

Number of Respondents and Responses: 500 respondents; 500 responses.

Estimated Time per Response: 7 hours.

Frequency of Response: On occasion reporting requirements.

Obligation to Respond: Required to obtain or retain benefits. Statutory authority for this information collection is contained in 47 U.S.C. 154(i), 214, 254, and 303(r).

Total Annual Burden: 3,500 hours.

Total Annual Cost: No Cost.

Nature and Extent of Confidentiality: Although most information collected in FCC Form 183 will be made available for public inspection, the Commission will withhold certain information collected in FCC Form 183 from routine public inspection. Specifically, the Commission will treat certain technical information submitted in FCC Form 183 as confidential and as though the applicant has requested that this information be treated as confidential trade secrets and/or commercial information. In addition, an applicant may use the abbreviated process under 47 CFR 0.459(a)(4) to request confidential treatment of certain financial information contained in its FCC Form 183 application. However, if a request for public inspection for this technical or financial information is made under 47 CFR 0.461, and the applicant has any objections to disclosure, the applicant will be notified and will be required to justify continued confidential treatment of its request. To the extent that a respondent seeks to have other information collected in FCC Form 183 withheld from public inspection, the respondent may request confidential treatment pursuant to 47 CFR 0.459.

Privacy Act Impact Assessment: No impact(s).

Needs and Uses: The Commission will use the information collected to determine whether applicants are eligible to participate in the CAF-II auction. In its USF/ICC Transformation Order and Further Notice of Proposed Rulemaking, 76 FR 78385 (Dec. 16, 2011), WC Docket No. 10-90 et al., FCC 11-161, the Commission comprehensively reformed and modernized the high-cost program within the universal service fund to focus support on networks capable of providing voice and broadband services. The Commission created the Connect America Fund and concluded that support in price cap areas would be provided through a combination of “a new forward-looking model of the cost of constructing modern multi-purpose networks” and a competitive bidding process (the CAF-II auction). The Commission also sought comment on proposed rules governing the CAF-II auction, including options regarding basic auction design and the application process.

In the CAF-II auction, service providers will compete to receive support of up to $1.98 billion over 10 years to offer voice and broadband service in unserved high-cost areas. To implement reform and conduct the CAF-II auction, the Commission adopted new rules for the CAF-II auction which include new information collections. In its April 2014 Connect America Order, WC Docket No. 10-90 et al., FCC 14-54, the Commission adopted certain rules regarding participation in the CAF-II auction, the term of support, and the ETC designation process. In its Phase II Auction Order, WC Docket No. 10-90 et al., FCC 16-64, the Commission adopted rules to implement the CAF-II auction, including the adoption of a two-stage application process. Based on the Commission's experience with auctions and consistent with the record, this two-stage collection of information balances the need to collect information essential to conduct a successful auction with administrative efficiency.

Under this information collection, the Commission will collect information that will be used to determine whether an applicant is legally qualified to participate in an auction for Connect America Fund Phase II support. To aid in collecting this information, the Commission has created FCC Form 183, which the public will use to provide the necessary information and certifications. Commission staff will review the information collected on FCC Form 183 as part of the pre-auction process, prior to the start of the auction, and determine whether each applicant satisfies the Commission's requirements to participate in an auction for CAF-II support. Without the information collected on FCC Form 183, the Commission will not be able to determine if an applicant is legally qualified to participate in the auction and has complied with the various applicable regulatory and statutory auction requirements for such participation. This approach provides an appropriate screen to ensure serious participation without being unduly burdensome.

Federal Communications Commission.
Marlene H. Dortch,
Secretary, Office of the Secretary.

[FR Doc. 2018-04945 Filed 3-12-18; 8:45 am]

BILLING CODE 6712-01-P